INTERNATIONAL TRADE COMMISSION

[Investigation Nos. 701-TA-668-669 and 731-TA-1565-1566 (Final)]

Urea Ammonium Nitrate Solutions From Russia and Trinidad and Tobago

Determinations

On the basis of the record ¹ developed in the subject investigations, the United States International Trade Commission (“Commission”) determines, pursuant to the Tariff Act of 1930 (“the Act”), that an industry in the United States is not materially injured or threatened with material injury by reason of imports of urea ammonium nitrate solutions from Russia and Trinidad and Tobago, provided for in subheading 3102.80.00 of the Harmonized Tariff Schedule of the United States, that have been found by the U.S. Department of Commerce (“Commerce”) to be subsidized by the governments of Russia and Trinidad and Tobago and to be sold in the United States at less than fair value (“LTFV”).²

¹ The record is defined in § 207.2(f) of the Commission's Rules of Practice and Procedure (19 CFR 207.2(f)).

² 87 FR 37836 and 87 FR 37828 (June 24, 2022) and 87 FR 37831 and 87 FR 37824 (June 24, 2022).

Background

The Commission instituted these investigations effective June 30, 2021, following receipt of petitions filed with the Commission and Commerce by CF Industries Nitrogen, LLC and its subsidiaries, Terra Nitrogen, Limited Partnership and Terra International (Oklahoma) LLC, all of Deerfield, Illinois. The final phase of the investigations was scheduled by the Commission following notification of preliminary determinations by Commerce that imports of urea ammonium nitrate solutions from Russia and Trinidad and Tobago were subsidized within the meaning of section 703(b) of the Act (19 U.S.C. 1671b(b)) and sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on February 23, 2022 (87 FR 10241). The Commission conducted its hearing on June 16, 2022. All persons who requested the opportunity were permitted to participate.

The Commission made these determinations pursuant to §§ 705(b) and 735(b) of the Act (19 U.S.C. 1671d(b) and 19 U.S.C. 1673d(b)). It completed and filed its determinations in these investigations on August 4, 2022. The views of the Commission are contained in USITC Publication 5338 (August 2022), entitled Urea Ammonium Nitrate Solutions from Russia and Trinidad and Tobago: Investigation Nos. 701-TA-668-669 and 731-TA-1565-1566 (Final).

By order of the Commission.
Issued: August 5, 2022.
Katherine Hiner,
Acting Secretary to the Commission.

[FR Doc. 2022-17195 Filed 8-9-22; 8:45 am]

BILLING CODE 7020-02-P